ENVIRONMENTAL PROTECTION AGENCY

[FRL-7115-6]

Clean Water Act Section 303(d): Availability of Total Maximum Daily Load (TMDLs) and Determinations That TMDLs Are Not Needed; Public Comment Continuation

AGENCY: Environmental Protection Agency (EPA).

ACTION: Notice of public comment period continuation.

SUMMARY: This notice announces the continuation of the public comment period for the TMDLs published in Federal Register and the determinations that TMDLs are not needed, published on October 15, 2001 at 66 FR 52403-52404. These TMDLs were completed in response to a court order dated October 1, 1999, in the lawsuit Sierra Club, et al. v. Clifford et al., No. 96-0527, (E.D. La.).

DATES: Comments must be submitted for these TMDLs published 10/15/2001 (dissolved oxygen, nutrients, and ammonia) in writing to EPA on or before December 21, 2001.

ADDRESSES: Comments on the TMDLs and the determinations that TMDLs are not needed should be sent to Ellen Caldwell, Environmental Protection Specialist, Water Quality Protection Division, U.S. Environmental Protection Agency Region 6, 1445 Ross Ave., Dallas, TX 75202-2733. For further information, contact Ellen Caldwell at (214) 665-7513. The administrative record file for these TMDLs and the determinations that TMDLs are not needed are available for public inspection at this address as well. Documents from the administrative record file may be viewed at www.epa.gov/region6/water/tmdl.htm, or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims the plaintiffs alleged that EPA failed to establish Louisiana TMDLs in a timely manner. Discussion of the court's order may be found at 65 FR 54032 (September 6, 2000).

EPA will review all data and information submitted during the continued public comment period and revise the TMDLs and determinations that TMDLs are not necessary where appropriate. EPA will then forward the TMDLs to the Court and the Louisiana Department of Environmental Quality (LDEQ). LDEQ will incorporate the TMDLs into its current water quality management plan. EPA also will revise the Louisiana 303(d) list as appropriate.

Dated: November 29, 2001.
Jayne Fontenot,
Acting Director, Water Quality Protection Division, Region 6.

[FR Doc. 01-30586 Filed 12-10-01; 8:45 am]

BILLING CODE 6560-50-P